NUCLEAR REGULATORY COMMISSION

10 CFR Part 50

[Docket No. NRC-2020-0036]

RIN 3150-AK71

Reporting Requirements for Nonemergency Events at Nuclear Power Plants

AGENCY: Nuclear Regulatory Commission.

ACTION: Regulatory basis; request for comment.

SUMMARY: The U.S. Nuclear Regulatory Commission (NRC) is requesting comment on a regulatory basis to support a rulemaking that would amend its regulations for nonemergency event notifications. The NRC is evaluating the current requirements and guidance for immediate notification of nonemergency events for operating nuclear power reactors and assessing whether the requirements present an unnecessary reporting burden. The regulatory basis contains an analysis of whether reporting requirements can be reduced or eliminated when they do not have a commensurate safety benefit.

DATES: Submit comments by January 9, 2023. Comments received after this date will be considered if it is practical to do so, but the NRC is able to ensure consideration only for comments received before this date.

ADDRESSES: You may submit comments by any of the following methods; however, the NRC encourages electronic comment submission through the Federal rulemaking website:

• Federal rulemaking website: Go to https://www.regulations.gov and search for Docket ID NRC-2020-0036. Address questions about NRC dockets to Dawn Forder; telephone: 301-415-3407; email: Dawn.Forder@nrc.gov. For technical questions, contact the individual(s) listed in the FOR FURTHER INFORMATION CONTACT section of this document.

• Email comments to: Rulemaking.Comments@nrc.gov. If you do not receive an automatic email reply confirming receipt, then contact us at 301-415-1677.

For additional direction on obtaining information and submitting comments, see “Obtaining Information and Submitting Comments” in the SUPPLEMENTARY INFORMATION section of this document.

FOR FURTHER INFORMATION CONTACT: George Tartal, Office of Nuclear Material Safety and Safeguards, U.S. Nuclear Regulatory Commission, Washington, DC 20555-0001; telephone: 301-415-0016; email: George.Tartal@nrc.gov; or Brian Benney, Office of Nuclear Reactor Regulation, U.S. Nuclear Regulatory Commission, Washington, DC 20555-0001; telephone: 301-415-2767; email: Brian.Benney@nrc.gov.

SUPPLEMENTARY INFORMATION:

I. Obtaining Information and Submitting Comments

A. Obtaining Information

Please refer to Docket ID NRC-2020-0036 (formerly Docket ID NRC-2018-0201 for the associated petition for rulemaking) when contacting the NRC about the availability of information for this action. You may obtain publicly available information related to this action by any of the following methods:

• Federal Rulemaking Website: Go to https://www.regulations.gov and search for Docket ID NRC-2020-0036 (or Docket ID NRC-2018-0201 for the associated petition for rulemaking).

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2020-0036 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

To facilitate early stakeholder engagement in the rulemaking process, the NRC is requesting comment on a regulatory basis to support a rulemaking that would amend Section 50.72, “Immediate notification requirements for operating nuclear power reactors,” of Title 10 of the Code of Federal Regulations (10 CFR).

The regulatory basis is developed as a precursor to a proposed rule and describes the NRC's preferred approach for resolving an issue raised in a petition for rulemaking (PRM), PRM-50-116, submitted by the Nuclear Energy Institute (NEI) on August 2, 2018. The petition requested the NRC to amend its regulations to remove all nonemergency notification requirements for operating nuclear power reactors. On August 12, 2021, the NRC published a notice in the Federal Register (86 FR 44290) announcing its decision to consider in its rulemaking process changes to these requirements.

The regulatory basis recommends that the NRC pursue rulemaking to remove six of the nonemergency event notification requirements, clarify regulatory guidance for two of the requirements, and make no changes to the rest of the nonemergency event notification requirements. The NRC also recommends rulemaking to provide a voluntary, alternative method for submitting nonemergency event reports to the NRC.

The NRC will consider feedback received on the regulatory basis in the development of the planned proposed rule and will address written comments in that proposed rule.

III. Cumulative Effects of Regulations

The Cumulative Effects of Regulation (CER) describes the challenges that licensees or other impacted entities (such as State agency partners) may face while implementing new regulatory positions, programs, and requirements (e.g., rules, generic letters, backfits, inspections). The CER is an organizational challenge that results from a licensee or impacted entity implementing a number of complex positions, programs, or requirements within a limited implementation period and with available resources (which may include limited available expertise to address a specific issue). The NRC is following its CER process by engaging with external stakeholders throughout this regulatory basis and related regulatory activities. Opportunity for public comment is provided to the public at this regulatory basis stage. The NRC has implemented CER enhancements to the rulemaking process to facilitate public involvement throughout the rulemaking process. The NRC is requesting CER feedback on the following questions:

1. In light of any current or projected CER challenges, what should be a reasonable effective date, compliance date, or submittal date(s) from the time the final rule is published to the actual implementation of any new proposed requirements, including changes to programs, procedures, or the facility?

2. If current or projected CER challenges exist, what should be done to address this situation (e.g., if more time is required to implement the new requirements, what period of time would be sufficient, and why such a time frame is necessary)?

3. Do other regulatory actions (e.g., orders, generic communications, license amendment requests, and inspection findings of a generic nature) by the NRC or other agencies influence the implementation of the potential proposed requirements?

4. Are there unintended consequences? Does the potential proposed action create conditions that would be contrary to the potential proposed action's purpose and objectives? If so, what are the consequences and how should they be addressed?

Please provide information on the costs and benefits of the potential proposed action. This information will be used to support additional regulatory analysis by the NRC.

IV. Availability of Documents

The documents identified in the following table are available to interested persons through one or more of the following methods, as indicated.

Document | ADAMS accession No./web link/Federal Register citation
Regulatory Basis for Reporting Requirements for Nonemergency Events at Nuclear Power Plants | ML22108A004
PRM-50-116, Considering in the Rulemaking Process: Elimination of Immediate Notification Requirements for Nonemergency Events, August 12, 2021 | 86 FR 44290
PRM-50-116, Notice of Docketing and Request for Comment: Elimination of Immediate Notification Requirements for Non-Emergency Events, November 20, 2018 | 83 FR 58509
Petition for Rulemaking PRM-50-116, Submitted by the Nuclear Energy Institute, August 2, 2018 | ML18247A204
SECY-20-0109, “Petition for Rulemaking and Rulemaking Plan on Immediate Notification Requirements for Nonemergency Events (PRM-50-116; NRC-2018-0201),” November 30, 2020 | ML20073G008
SRM-SECY-20-0109, “Petition for Rulemaking and Rulemaking Plan on Immediate Notification Requirements for Nonemergency Events,” July 28, 2021 | ML21209A947

The NRC may post documents related to this rulemaking activity to the Federal rulemaking website at https://www.regulations.gov under Docket ID NRC-2020-0036. In addition, the Federal rulemaking website allows members of the public to receive alerts when changes or additions occur in a docket folder. To subscribe: (1) Navigate to the docket folder (NRC-2020-0036); (2) click the “Subscribe” link; and (3) enter an email address and click on the “Subscribe” link.

V. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31885). The NRC requests comment on this document with respect to the clarity and effectiveness of the language used.

Dated: November 4, 2022.
For the Nuclear Regulatory Commission.
Christopher M. Regan,
Director, Division of Rulemaking, Environmental, and Financial Support, Office of Nuclear Material Safety and Safeguards.

[FR Doc. 2022-24463 Filed 11-8-22; 8:45 am]

BILLING CODE 7590-01-P